DEPARTMENT OF COMMERCE

International Trade Administration

[A-475-829]

Stainless Steel Bar From Italy: Final Results of Antidumping Duty Administration Review and Rescission of Review

AGENCY: Import Administration, International Trade Administration, Department of Commerce.

SUMMARY: On October 28, 2005, the Department of Commerce published the preliminary results of the third administrative review of the antidumping duty order on stainless steel bar from Italy. The period of review is March 1, 2005, through February 28, 2005. This review covers imports of stainless steel bar to the United States from UGITECH S.A. Based on our analysis of the comments received, we conclude that the final results do not differ from the preliminary results of review, in which we found that UGITECH S.A. did not make shipments of subject merchandise to the United States during the period of review. Therefore, we are rescinding the administrative review.

DATES: Effective Date: March 2, 2006.

FOR FURTHER INFORMATION CONTACT: Scott Holland, AD/CVD Operations, Office 1, Import Administration, International Trade Administration, U.S. Department of Commerce, 14th Street and Constitution Avenue, NW., Washington DC 20230; telephone (202) 482-1279.

SUPPLEMENTARY INFORMATION:

Background

Since the publication of the preliminary results of this review (see Stainless Steel Bar from Italy: Preliminary Results of Antidumping Duty Administration Review and Preliminary Rescission of Review, 70 FR 62096 (October 28, 2005) (“Preliminary Results”)), the following events have occurred:

We invited interested parties to comment on the preliminary results of this review. On November 28, 2005, we received a case brief from UGITECH S.A. (“UGITECH”), an Italian exporter/producer of the subject merchandise. No rebuttal briefs were submitted.

Scope of the Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished produced, cut length flat-rolled products (i.e., cut length rolled products which if less than 4.75 mm in thickness have a width measuring at least 10 times the thickness, or if 4.75 mm or more in thickness having a width which exceeds 150 mm and measures at least thick the thickness), products that have been cut from stainless steel sheet, strip or plate, wire (i.e., cold-formed products in coils, or any uniform solid cross section along their whole length, which do not conform to the definition of flat-rolled products), and angles, shapes and sections.

The stainless steel bar subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this order is dispositive.

Period of Review

The period of review (“POR”) is March 1, 2004, through February 28, 2005.

Analysis of Comments Received

In its November 28, 2005, submission, UGITECH agreed with the Department's findings in the Preliminary Results and asserted that the review should be rescinded. We received no other comments on the Preliminary Results.

Rescission of Administrative Review

In accordance with 19 CFR 351.213(d)(3), and consistent with the Preliminary Results, we are rescinding this review with respect to UGITECH, which reported that it made no shipments of the subject merchandise to the United States during the POR. As stated in the Preliminary Results, we examined shipment data furnished by U.S. Customs and Border Protection (“CBP”). See Memorandum to the File, “U.S. Customs and Border Protection Data,” dated July 12, 2005. Based on this information, we are satisfied that there were no U.S. shipments of subject merchandise from UGITECH during the POR.

Assessment

The Department will instruct CBP to assess antidumping duties on all appropriate entries. For UGITECH, antidumping duties shall be assessed at the rate equal to the cash deposit of estimated antidumping duties required at the time of entry, or withdrawal from warehouse, for consumption, in accordance with 19 CFR 351.212(c)(1)(i).

In accordance with the Department's clarification of its assessment policy (see Antidumping and Countervailing Duty Proceedings: Assessment of Antidumping Duties, 68 FR 23954 (May 6, 2003)), in the event any entries were made during the POR through intermediaries under the CBP case number for UGITECH, the Department will instruct CBP to liquidate such entries at the all-others rate in effect on the date of entry. The Department will issue appropriate assessment instructions directly to CBP within 15 days of publication of this notice.

Cash Deposit Rates

For UGITECH, the cash deposit rate will continue to be 33.00 percent. See Stainless Steel Bar from Italy: Final Results of Antidumping Duty Administrative Review, 69 FR 32984 (June 14, 2004). This cash deposit rate shall remain in effect until publication of the final results of the next administrative review involving UGITECH.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

These results of administrative review and notice are published in accordance with sections 751(a)(1) and 777(i)(1) of the Act.

Dated: February 23, 2006.
Joseph A. Spetrini,
Acting Assistant Secretary for Import Administration.

[FR Doc. 06-1932 Filed 3-1-06; 8:45 am]

BILLING CODE 3510-DS-M